FEDERAL EMERGENCY MANAGEMENT AGENCY

[FEMA-1447-DR]

Northern Mariana Islands; Amendment No. 3 to Notice of a Major Disaster Declaration

AGENCY: Federal Emergency Management Agency (FEMA).

ACTION: Notice.

SUMMARY: This notice amends the notice of a major disaster declaration for the Commonwealth of the Northern Mariana Islands, (FEMA-1447-DR), dated December 11, 2002, and related determinations.

EFFECTIVE DATE: January 2, 2003.

FOR FURTHER INFORMATION CONTACT: Magda Ruiz, Response and Recovery Directorate, Federal Emergency Management Agency, Washington, DC 20472, (202) 646-2705 or Magda.Ruiz@fema.gov.

SUPPLEMENTARY INFORMATION: The notice of a major disaster declaration for the Commonwealth of the Northern Mariana Islands is hereby amended to include Categories C through G under the Public Assistance program for the Island of Rota determined to have been adversely affected by the catastrophe declared a major disaster by the President in his declaration of December 11, 2002:

Island of Rota for Categories C through G under the Public Assistance program (already designated for debris removal and emergency protective measures (Categories A and B), including direct Federal Assistance, at 75 percent Federal funding).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)

Joe M. Allbaugh,
Director.

[FR Doc. 03-480 Filed 1-9-03; 8:45 am]

BILLING CODE 6718-02-P